DEPARTMENT OF THE INTERIOR

U.S. Fish and Wildlife Service

Notice of Availability, Draft Restoration Plan and Environmental Assessment

AGENCY: Fish and Wildlife Service, U.S. Department of the Interior.

ACTION: Notice of availability.

SUMMARY: The U.S. Fish and Wildlife Service (Service), on behalf of the U.S. Department of the Interior (DOI), National Oceanic and Atmospheric Administration (NOAA), and New York State Department of Environmental Conservation (New York), as natural resource trustees, announces the release for public review of the Draft Restoration Plan and Environmental Assessment (RP/EA) for the Love Canal, 102nd Street, and Forest Glen Mobile Home Subdivision Superfund sites. The Draft RP/EA presents a preferred alternative, consisting of a variety of restoration projects, that compensates for impacts to natural resources caused by contaminant releases and remedial activities associated with the three mentioned sites.

DATES: Written comments must be submitted on or before February 15, 2005.

ADDRESSES: Requests for copies of the RP/EA may be made to: U.S. Fish and Wildlife Service, New York Field Office, 3817 Luker Road, Cortland, New York 13045.

Written comments or materials regarding the RP/EA should be sent to the same address.

FOR FURTHER INFORMATION CONTACT: Anne L. Secord, Environmental Contaminants Program, U.S. Fish and Wildlife Service, New York Field Office, 3817 Luker Road, Cortland, New York 13045. Interested parties may also call 607-753-9334 or e-mail Anne_Secord@fws.gov for further information.

SUPPLEMENTARY INFORMATION: During the period of March 1996 through December 2000, natural resource damage settlements were achieved for the Love Canal, 102nd Street, and Forest Glen Mobile Home Subdivision Superfund sites. NOAA was a settling Trustee with DOI on all three settlements; the State of New York was a settling Trustee for the 102nd Street and Forest Glen settlements. These three sites discharged a variety of hazardous chemicals into wetlands, uplands, streams, and rivers in Niagara County, including the Niagara River, Cayuga Creek, East Gill Creek, Bergholtz Creek, and Black Creek. Chemical releases and remedial activities at the three sites adversely affected natural resources such as warmwater fish, migratory birds, amphibians, and reptiles. The funds available from these settlements for restoration activities total approximately $1.3 million.

A combined restoration initiative is proposed to allow for a larger, more effective and meaningful resource restoration.

The RP/EA is being released in accordance with the Compensation, and Liability Comprehensive Environmental Response Act (CERCLA) of 1980 as amended, commonly known as Superfund, (42 U.S.C. 9601 et seq.), the Natural Resource Damage Assessment Regulations found at 43 CFR part 11, and the National Environmental Policy Act. It is intended to describe the Trustees' proposals to restore natural resources injured at the sites and evaluate the potential impacts of each.

The RP/EA describes a number of habitat restoration and protection alternatives and discusses the environmental consequences of each. Restoration efforts which have the greatest potential to restore natural resources and services that were injured by contaminants or remedial activities are preferred. Based on an evaluation of the various restoration alternatives, the preferred alternative consists of a suite of restoration projects, including wetland restoration and protection, grassland restoration, stream restoration, urban stream/river restoration, common tern habitat restoration, walleye propagation, oak savannah restoration, and further contaminant characterization.

Interested members of the public are invited to review and comment on the RP/EA. Copies of the RP/EA are available for review at the Service's New York Field Office at 3817 Luker Road, Cortland, New York. Additionally, the RP/EA will be available for review at the following Web site (http://nyfo.fws.gov) and at the Niagara Falls Library. Written comments will be considered and addressed in the final RP/EA at the conclusion of the restoration planning process.

Comments, including names and home addresses of respondents, will be available for public review during regular business hours. Individual respondents may request confidentiality. If you wish us to withhold your name and or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Author: The primary author of this notice is Anne Secord, U.S. Fish and Wildlife Service, New York Field Office, 3817 Luker Road, Cortland, New York 13045.

Authority: The authority for this action is the CERCLA of 1980 as amended, commonly known as Superfund, (42 U.S.C. 9601 et seq.), and the Natural Resource Damage Assessment Regulations found at 43 CFR part 11.

Dated: November 30, 2004.
Dawn Comish,
Acting Regional Director, Region 5, U.S. Fish and Wildlife Service, U.S. Department of the Interior, DOI Designated Authorized Official.

[FR Doc. 04-28498 Filed 12-28-04; 8:45 am]

BILLING CODE 4310-55-P